DEPARTMENT OF ENERGY

Federal Energy Regulatory Commission

[Project No. 2077-016—New Hampshire, Vermont]

USGen New England, Inc.; Notice of Availability of Final Environmental Assessment

March 28, 2002.

In accordance with the National Environmental Policy Act of 1969 and the Federal Energy Regulatory Commission's (Commission) regulations, 18 CFR part 380 (Order No. 486, 52 FR 47897), the Office of Energy Projects has reviewed the application for a new license for the Fifteen Mile Falls Hydroelectric Project, located on the Connecticut River, in Grafton County, New Hampshire and Caledonia County, Vermont, and has prepared a final Environmental Assessment (EA) for the project. The project does not occupy any Federal lands.

On November 16, 2001, the Commission staff issued an EA for the Fifteen Mile Falls Project and requested that any comments be filed within 30 days. Comments were filed by various entities and are addressed in the final EA.

The final EA contains the staff's analysis of the potential environmental effects of the Fifteen Mile Falls Project and various alternatives, including no-action, and concludes that licensing the project, with appropriate environmental measures, would not constitute a major Federal action that would significantly affect the quality of the human environment.

A copy of the final EA is available for public review in the Public Reference Branch, Room 2-A, of the Commission's offices at 888 First Street, NE, Washington, DC 20426. The final EA may also be viewed on the web at http://www.ferc.fed.gov using the “RIMS” link, select “Docket #” and follow the instructions. Please call (202) 208-2222 for assistance.

For further information, contact William Guey-Lee at (202) 219-2808.

Linwood A. Watson, Jr.,
Deputy Secretary.

[FR Doc. 02-8001 Filed 3-29-02; 8:45 am]

BILLING CODE 6717-01-P